DEPARTMENT OF DEFENSE

Office of the Secretary

Strategic Environmental Research and Development Program, Scientific Advisory Board

AGENCY: Department of Defense.

ACTION: Notice.

SUMMARY: This Notice is published in accordance with Section 10(a)(2) of the Federal Advisory Committee Act (Pub. L. 92-463). The topic of the meeting on June 11-12, 2008 is to review new start and continuing research and development projects requesting Strategic Environmental Research and Development Program funds in excess of $1M. This meeting is open to the public. Any interested person may attend, appear before, or file statements with the Scientific Advisory Board at the time and in the manner permitted by the Board.

DATES: Wednesday, June 11, 2008 from 9 a.m. to 12 p.m.; Thursday, June 12, 2008 from 8 a.m. to 2:20 p.m.

ADDRESSES: Holiday Inn Express Hotel & Suites, 1706 Skibo Road, Fayetteville, NC 28303.

FOR FURTHER INFORMATION CONTACT: Mr. Jonathan Bunger, SERDP Program Office, 901 North Stuart Street, Suite 303, Arlington, VA 22203, or by telephone at (703) 696-2126.

Dated: May 23, 2008.
Patricia L. Toppings,
OSD Federal Register Liaison Officer, Department of Defense.

[FR Doc. E8-12437 Filed 6-3-08; 8:45 am]

BILLING CODE 5001-06-P